DEPARTMENT OF COMMERCE

National Oceanic and Atmospheric Administration

50 CFR Part 679

[Docket No. 231129-0281; RTID 0648-XC365]

Fisheries of the Exclusive Economic Zone Off Alaska; Bering Sea and Aleutian Islands; Revised Final 2023 and 2024 Harvest Specifications for Groundfish

AGENCY: National Marine Fisheries Service (NMFS), National Oceanic and Atmospheric Administration (NOAA), Commerce.

ACTION: Final rule; closures.

SUMMARY: NMFS publishes revisions to the final 2023 and 2024 harvest specifications for the 2024 groundfish fisheries of the Bering Sea and Aleutian Islands management area (BSAI) that are required by the final rule implementing Amendment 122 to the Fishery Management Plan for Groundfish of the Bering Sea and Aleutian Islands Management Area (FMP). This action is necessary to revise the 2024 trawl catcher vessel sector's Pacific cod allocation of the total allowable catch and associated halibut and crab prohibited species catch (PSC) limits in the BSAI. The intended effect of this action is to conserve and manage the groundfish resources in the BSAI in accordance with the FMP and the Magnuson-Stevens Fishery Conservation and Management Act (Magnuson-Stevens Act).

DATES: The final 2023 and 2024 harvest specifications for 2024 and associated apportionment of reserves are effective at 0001 hours, Alaska local time (A.l.t.), January 1, 2024, until the effective date of the final 2024 and 2025 harvest specifications for BSAI groundfish, which are anticipated to be published in the Federal Register in early 2024.

ADDRESSES: Electronic copies of the Final Alaska Groundfish Harvest Specifications Environmental Impact Statement (EIS), Record of Decision (ROD), the annual Supplementary Information Reports (SIRs) to the EIS, and the Final Regulatory Flexibility Analysis (FRFA) prepared for the final 2023 and 2024 harvest specifications are available from the NMFS Alaska Region website at https://www.fisheries.noaa.gov/region/alaska. The 2022 Stock Assessment and Fishery Evaluation (SAFE) report for the groundfish resources of the BSAI, dated November 2022, and SAFE reports for previous years are available from the North Pacific Fishery Management Council (Council) at 1007 West Third Avenue, Suite 400, Anchorage, AK 99501, phone 907-271-2809, or from the Council's website at https://www.npfmc.org. Electronic copies of the Environmental Assessment (EA), the Regulatory Impact Review, the Social Impact Analysis, and the Finding of No Significant Impact (FONSI) prepared for Amendment 122 to the FMP and the implementing rule may be obtained from https://www.regulations.gov in docket number NOAA-NMFS-2022-0072 or from the NMFS Alaska Region website at https://www.fisheries.noaa.gov/region/alaska.

FOR FURTHER INFORMATION CONTACT: Steve Whitney, 907-586-7228.

SUPPLEMENTARY INFORMATION: Federal regulations at 50 CFR part 679 implement the FMP and govern the groundfish fisheries in the BSAI. The Council prepared the FMP, and NMFS approved it, under the Magnuson-Stevens Act. General regulations governing U.S. fisheries also appear at 50 CFR part 600.

Amendment 122 and the Pacific Cod Trawl Cooperative (PCTC) Program

On August 8, 2023, NMFS published a final rule to implement Amendment 122 to the FMP (Amendment 122), which establishes a limited access privilege program to harvest Pacific cod in the BSAI trawl catcher vessel (CV) sector (the PCTC Program). The PCTC Program allocates Pacific cod quota share to qualifying groundfish License Limitation Program license holders and qualifying processors and requires participants to form cooperatives to harvest the quota. A complete description of the purpose and background of Amendment 122 is in the proposed rule for that action (88 FR 8592, February 9, 2023), as well as the final rule (88 FR 53704, August 8, 2023).

The PCTC Program and Accompanying Changes to the Harvest Specifications

In order to effectively manage the BSAI Pacific cod trawl CV fisheries in the beginning of 2024, NMFS must revise the final 2023 and 2024 harvest specifications (88 FR 14926, March 10, 2023) for 2024 to be consistent with Amendment 122 and implementing regulations. The final rule to implement Amendment 122 revised the Pacific cod trawl CV allocations in the BSAI by implementing the PCTC Program in the BSAI. Additionally, the final rule revised the crab and halibut PSC limits for the BSAI trawl limited access sector to implement the PCTC Program in the BSAI. These regulatory revisions, as well as additional revisions necessary to be consistent with Amendment 122 and implementing regulations (such as groundfish and halibut PSC sideboard limits), will be incorporated into future harvest specifications for the BSAI groundfish fisheries, starting with the proposed 2024 and 2025 harvest specifications, which should be published in December 2023. The final 2024 and 2025 harvest specifications should be published by March 2024.

Revisions to the Final 2023 and 2024 Harvest Specifications for 2024 for the BSAI

Based on the approval of Amendment 122 and its implementing regulations at 50 CFR part 679 (effective September 7, 2023), NMFS is revising the final 2023 and 2024 harvest specifications for 2024 for trawl CV Pacific cod in the BSAI. With this final rule, NMFS revises tables 9 and 16 and adds table 16a in the final 2023 and 2024 harvest specifications for groundfish in the BSAI (88 FR 14926, March 10, 2023) to be consistent with the final rule implementing Amendment 122. Tables 9 and 16 were originally published in the final 2023 and 2024 harvest specifications for the BSAI. This final rule uses the same table numbers and titles for tables 9 and 16 that were used in the final 2023 and 2024 harvest specifications and adds table 16a. However, the title of table 16 is revised to remove the term “AND 2024” and the reasons for this revision are addressed in the next section.

Revision to Table 9—Final 2024 Sector Allocations and Seasonal Allowances of the BSAI Pacific Cod TAC

Table 9 lists the final 2024 Pacific cod Community Development Quota (CDQ) and non-CDQ TAC amounts; non-CDQ seasonal allowances by gear; the sector allocations of Pacific cod; and the seasons set forth at § 679.23(e)(5). The table published in the final 2023 and 2024 harvest specifications reflects the trawl CV sector allocation and seasonal allowances, consistent with the regulations in effect when the final 2023 and 2024 harvest specifications were published. Table 9 must be revised to reflect the trawl CV Incidental Catch Amounts (ICAs) and PCTC Program allocations for the A and B seasons in accordance with regulatory changes made under Amendment 122. Pursuant to § 679.131(b), the A and B season trawl CV Pacific cod TAC specified for the BSAI is now allocated between the ICA and the PCTC Program. This is a change from 2023 and prior years, when the trawl CV A and B Pacific cod seasons were not further allocated. This final action revises table 9 to incorporate the correct sector allocations and seasonal allowances for 2024 Pacific cod in the BSAI.

Table 9—Final 2024 Sector Allocations and Seasonal Allowances of the BSAI Pacific Cod TAC
[Values are rounded to the nearest metric ton]
Sector | Percent | 2024 Share of gear sector total | 2024 Share of sector total | 2024 Seasonal allowances: Season | 2024 Seasonal allowances: Amount
Total Bering Sea TAC | n/a | 123,295 | n/a | n/a | n/a
Bering Sea CDQ | n/a | 13,193 | n/a | See § 679.20(a)(7)(i)(B) | n/a
Bering Sea non-CDQ TAC | n/a | 110,102 | n/a | n/a | n/a
Total Aleutian Islands TAC | n/a | 8,425 | n/a | n/a | n/a
Aleutian Islands CDQ | n/a | 901 | n/a | See § 679.20(a)(7)(i)(B) | n/a
Aleutian Islands non-CDQ TAC | n/a | 7,524 | n/a | n/a | n/a
Western Aleutians Islands Limit | n/a | 1,323 | n/a | n/a | n/a
Total BSAI non-CDQ TAC ¹ | 100.0 | 117,626 | n/a | n/a | n/a
Total hook-and-line/pot gear | 60.8 | 71,517 | n/a | n/a | n/a
Hook-and-line/pot ICA ² | n/a | n/a | 500 | n/a | n/a
Hook-and-line/pot sub-total | n/a | 71,017 | n/a | n/a | n/a
Hook-and-line catcher/processors | 48.7 | n/a | 56,883 | n/a | n/a
A-season |  |  |  | Jan 1-Jun 10 | 29,011
B-season |  |  |  | Jun 10-Dec 31 | 27,873
Hook-and-line catcher vessels >60 ft LOA | 0.2 | n/a | 234 | n/a | n/a
A-season |  |  |  | Jan 1-Jun 10 | 119
B-season |  |  |  | Jun 10-Dec 31 | 114
Pot catcher/processors | 1.5 | n/a | 1,752 | n/a | n/a
A-season |  |  |  | Jan 1-Jun 10 | 894
B-season |  |  |  | Sept 1-Dec 31 | 859
Pot catcher vessels >60 ft LOA | 8.4 | n/a | 9,812 | n/a | n/a
A-season |  |  |  | Jan 1-Jun 10 | 5,004
B-season |  |  |  | Sept 1-Dec 31 | 4,808
Catcher vessels <60 ft LOA using hook-and-line or pot gear | 2.0 | n/a | 2,336 | n/a | n/a
Trawl catcher vessels ³ | 22.1 | 25,995 | n/a | n/a | n/a
A-Season ICA |  |  |  | Jan 20-Apr 1 | 1,500
A-season PCTC |  |  |  | Jan 20-Apr 1 | 17,737
B-season ICA |  |  |  | Apr 1-Jun 10 | 700
B-season PCTC |  |  |  | Apr 1-Jun 10 | 2,159
C-season trawl catcher vessels |  |  |  | Jun 10-Nov 1 | 3,899
AFA trawl catcher/processors | 2.3 | 2,705 | n/a | n/a | n/a
A-season |  |  |  | Jan 20-Apr 1 | 2,029
B-season |  |  |  | Apr 1-Jun 10 | 676
C-season |  |  |  | Jun 10-Nov 1 |
Amendment 80 | 13.4 | 15,762 | n/a | n/a | n/a
A-season |  |  |  | Jan 20-Apr 1 | 11,821
B-season |  |  |  | Apr 1-Jun 10 | 3,940
C-season |  |  |  | Jun 10-Dec 31 |
Jig | 1.4 | 1,647 | n/a | n/a | n/a
A-season |  |  |  | Jan 1-Apr 30 | 988
B-season |  |  |  | Apr 30-Aug 31 | 329
C-season |  |  |  | Aug 31-Dec 31 | 329
¹ The sector allocations and seasonal allowances for BSAI Pacific cod TAC are based on the sum of the BS and Aleutian Islands (AI) Pacific cod TACs, after subtraction of the reserves for the CDQ Program. If the TAC for Pacific cod in either the BS or AI is or will be reached, then directed fishing will be prohibited for non-CDQ Pacific cod in that subarea, even if a BSAI allowance remains (§ 679.20(d)(1)(iii)).
² The ICA for the hook-and-line and pot sectors will be deducted from the aggregate portion of Pacific cod TAC allocated to the hook-and-line and pot sectors. The Regional Administrator establishes an ICA of 500 metric tons (mt) based on anticipated incidental catch by these sectors in other fisheries.
³ The A and B season trawl CV Pacific cod allocation will be allocated to the Pacific Cod Trawl Cooperative Program after subtraction of the A and B season ICAs (§ 679.131(b)(1)). The Regional Administrator establishes ICAs for the A and B seasons of 1,500 mt and 700 mt, respectively, to account for projected incidental catch of Pacific cod by trawl catcher vessels engaged in directed fishing for groundfish other than PCTC Program Pacific cod.
Note: Seasonal or sector apportionments may not total precisely due to rounding.

Revision to Table 16—Final 2023 and 2024 Prohibited Species Bycatch Allowances for the BSAI Trawl Limited Access Sector

Table 16 lists the seasonal allocations of the 2023 and 2024 crab and halibut PSC limits in the BSAI for the BSAI trawl limited access sector by fishery category and season. These allocations are made pursuant to § 679.21(b) and (e) (as revised). The table published in the final 2023 and 2024 harvest specifications incorporates fishery categories and seasonal apportionments for the trawl CV sector and American Fisheries Act (AFA) catcher/processor (CP) sector. NMFS is removing “AND 2024” from the title for table 16 and is adding table 16a to incorporate the correct 2024 PCTC Program allocations to trawl CVs and AFA CPs in accordance with regulatory changes made under Amendment 122. For the PCTC Program, NMFS will apportion the crab PSC limit assigned to the BSAI trawl limited access sector Pacific cod fishery to the trawl CV sector at 90.6 percent and to the AFA CP sector at 9.4 percent (§ 679.131(d)). NMFS will apportion the halibut PSC limit assigned to the BSAI trawl limited access sector Pacific cod fishery to the trawl CV sector at 98 percent and to the AFA CP sector at 2 percent (§ 679.131(c)). NMFS will then apportion the crab and halibut PSC limit to the trawl CV sector for the A and B seasons combined (January 20 through June 10), and C season (June 10 through November 1). Of the crab and halibut PSC limit apportioned to the trawl CV sector, 95 percent will be available for the PCTC Program in the combined A and B seasons and 5 percent is available for the C season.

To implement the crab and halibut PSC reductions under the PCTC Program, NMFS will annually apply a fixed percentage reduction to the combined A and B seasons PSC apportionment derived from the Pacific cod trawl CV sector halibut PSC apportionment because the specific percentage of the total halibut PSC limit assigned to the BSAI trawl limited access sector (§ 679.21(b)(1)(ii)), as well as the total crab PSC limit assigned to the BSAI trawl limited access sector (§ 679.21(e)(3)(i)), may change annually. The total crab PSC reduction under the PCTC Program is 35 percent, and NMFS is fully implementing this reduced PSC limit in the 2024 harvest specifications. The total halibut PSC reduction under the PCTC Program is 25 percent, which will be phased in over 2 years, consistent with the PCTC Program regulations (§ 679.131(c)(1)(iii)). In the first year of the PCTC Program, NMFS is applying a 12.5 percent reduction to the combined A and B seasons trawl CV sector halibut PSC apportionment in the 2024 harvest specifications. In the second year and every year thereafter, NMFS will apply the 25 percent reduction to the combined A and B season trawl CV sector halibut PSC apportionment. This final action revises table 16 to remove “AND 2024” because this revision action requires a new table for 2024.

Table 16-Final 2023 Prohibited Species Bycatch Allowances for the BSAI Trawl Limited Access Sector
BSAI trawl limited access fisheries | Prohibited species and area and zone ¹: Halibut mortality (mt) BSAI | Prohibited species and area and zone ¹: Red king crab (animals) zone 1 | Prohibited species and area and zone ¹: C. opilio (animals) COBLZ | Prohibited species and area and zone ¹: C. bairdi (animals): Zone 1 | Prohibited species and area and zone ¹: C. bairdi (animals): Zone 2
Yellowfin sole | 265 | 7,700 | 1,192,179 | 293,234 | 1,005,879
Rock sole/flathead sole/Alaska plaice/other flatfish ² |  |  |  |  |
Greenland turbot/arrowtooth flounder/Kamchatka flounder/sablefish |  |  |  |  |
Rockfish April 15-December 31 | 5 |  | 1,006 |  | 849
Pacific cod | 300 | 975 | 50,281 | 50,816 | 42,424
Pollock/Atka mackerel/other species ³ | 175 | 65 | 5,028 | 4,235 | 4,243
Total BSAI trawl limited access PSC | 745 | 8,739 | 1,248,494 | 348,285 | 1,053,394
Note: Seasonal or sector allowances may not total precisely due to rounding.
¹ Refer to § 679.2 for definitions of areas and zones.
² “Other flatfish” for PSC monitoring includes all flatfish species, except for halibut (a prohibited species), Alaska plaice, arrowtooth flounder, flathead sole, Greenland turbot, Kamchatka flounder, rock sole, and yellowfin sole.
³ “Other species” for PSC monitoring includes skates, sharks, and octopuses.

Table 16a—Final 2024 Prohibited Species Bycatch Allowances for the BSAI Trawl Limited Access Sectors and Pacific Cod Trawl Cooperative Program
BSAI trawl limited access sector fisheries | Prohibited species and area ¹: Halibut mortality (mt) BSAI | Prohibited species and area ¹: Red king crab (animals) zone 1 | Prohibited species and area ¹: C. opilio (animals) COBLZ | Prohibited species and area ¹: C. bairdi (animals): Zone 1 | Prohibited species and area ¹: C. bairdi (animals): Zone 2
Yellowfin sole | 265 | 7,700 | 1,192,179 | 293,234 | 1,005,879
Rock sole/flathead sole/other flatfish ² |  |  |  |  |
Greenland turbot/arrowtooth flounder/Kamchatka flounder/sablefish |  |  |  |  |
Rockfish, April 15-December 31 | 5 |  | 1,006 |  | 849
Total Pacific cod ³ | 300 | 975 | 50,281 | 50,816 | 42,424
AFA CP Pacific cod | 6 | 92 | 4,726 | 4,777 | 3,988
PCTC Program Pacific cod, A and B Season | 244 | 545 | 28,130 | 28,429 | 23,734
Trawl CV Pacific cod, C Season | 15 | 44 | 2,278 | 2,302 | 1,922
PCTC Program unallocated reduction | 35 | 294 | 15,147 | 15,308 | 12,780
Pollock/Atka mackerel/other species ⁴ | 175 | 65 | 5,028 | 4,235 | 4,243
Total BSAI trawl limited access sector PSC | 745 | 8,739 | 1,248,494 | 348,285 | 1,053,394
¹ Refer to § 679.2 for definitions of areas and zones.
² “Other flatfish” for PSC monitoring includes all flatfish species, except for halibut (a prohibited species), Alaska plaice, arrowtooth flounder, flathead sole, Greenland turbot, Kamchatka flounder, rock sole, and yellowfin sole.
³ With the implementation of the PCTC Program, the BSAI trawl limited access sector Pacific cod fishery category PSC limits are further apportioned between AFA CPs, PCTC A and B-season, and open access C season (§ 679.131(c) and (d)). In the first year of the Program, 2024, NMFS will apply a 12.5 percent reduction to the A and B season trawl CV sector halibut PSC limit and a 35 percent reduction to the A and B season trawl CV sector crab PSC limit. The proposed 2024 PCTC Program A and B season halibut and crab PSC limits include these reductions. In the second year of the Program and every year thereafter, NMFS will apply a 25 percent and 35 percent reduction to the A and B season trawl CV sector halibut and crab PSC limit, respectively. Any amount of the PCTC Program PSC limit remaining after the B season may be reapportioned to the trawl CV limited access fishery in the open access C season. Because the annual halibut PSC limit for the PCTC Program is not a fixed amount established in regulation and, instead, is determined annually through the harvest specification process, NMFS must apply the reductions to the A and B season apportionment of the trawl CV sector apportionment to implement the overall PSC reductions under the PCTC Program.
⁴ “Other species” for PSC monitoring includes skates, sharks, and octopuses.
Note: Species apportionments may not total precisely due to rounding.

This final rule is necessary to ensure that appropriate Pacific cod allocations and crab and halibut PSC limits will be in effect for the beginning of the 2024 fishing year for those fishery participants affected by the PCTC Program changes that were established under Amendment 122 and its implementing regulations. These changes to the Pacific cod allocations and crab and halibut PSC limits also will be incorporated in future harvest specifications for the BSAI groundfish fisheries.

Classification

NMFS issues the groundfish harvest specifications pursuant to 305(d) of the Magnuson-Stevens Act. Through previous actions, the FMP and regulations authorize NMFS to issue the groundfish harvest specifications. See 50 CFR part 679. The NMFS Assistant Administrator has determined that these revisions to the final 2023 and 2024 harvest specifications for 2024 are consistent with the FMP, the Magnuson-Stevens Act, and other applicable laws.

This action is authorized under 50 CFR 679.20 and is exempt from review under Executive Order 12866.

Pursuant to 5 U.S.C. 553(b)(B), the NMFS Assistant Administrator finds good cause to waive prior notice and opportunity for public comment on this action as notice and comment would be unnecessary and contrary to the public interest. Through this action, NMFS revises the final 2024 BSAI harvest specifications to be consistent with the final rule implementing Amendment 122 to the FMP and to ensure that the 2024 trawl CV Pacific cod allocation and PSC limit changes implemented under Amendment 122 and its final rule will be effective at the beginning of the 2024 fishing year. Prior notice and opportunity for public comment on this action is unnecessary because the revisions from this action merely update the 2024 BSAI harvest specifications to reflect allocations and PSC limits implemented and required by the final rule for Amendment 122: the 2023 and 2024 groundfish harvest specifications have already been subject to notice and comment, and the final rule and Amendment 122 were also already subject to notice and comment. This action does not revise the final 2023 and 2024 BSAI harvest specifications in any substantive manner not previously the subject of notice and comment during the development of Amendment 122 and implementing regulations.

In addition, it is important and necessary that the Pacific cod allocations and PSC limits revised under Amendment 122 and its implementing regulations are effective at the beginning of the 2024 fishing year, rather than waiting to implement the revisions in the final 2024 and 2025 BSAI harvest specifications, which will not be effective until after the start of the 2024 fishing year. The current 2023 and 2024 BSAI harvest specifications became effective before Amendment 122 was published. The Pacific cod fisheries in the BSAI are intensive, fast-paced fisheries. U.S. fishing vessels have demonstrated the capacity to catch the Pacific cod TAC allocations in these fisheries. This fleet in particular targets much of their annual catch early in the year when fish school up to spawn. Much of this fishing will be over by when the final 2024 and 2025 BSAI harvest specifications publish in February or March of 2024. The harvest specifications rely upon annual surveys and analyses to set the following year's allocations. Such surveys were not available in time to assess the data and publish this rule any sooner. Any delay in allocating the 2024 Pacific cod trawl CV TACs under Amendment 122 and its implementing regulations would cause confusion to the industry and potential economic harm through unnecessary discards.

Determining which fisheries may close is impossible because these fisheries are affected by several factors that cannot be predicted in advance, including fishing effort, weather, movement of fishery stocks, and market price. Furthermore, the closure of one fishery has a cascading effect on other fisheries by freeing up fishing vessels, allowing them to move from closed fisheries to open fisheries, increasing the fishing capacity in those open fisheries, and causing them to close at an accelerated pace. Accordingly, waiver of prior notice and opportunity for public comment and publication of this final rule is necessary to ensure that the allocations and limitations required under the final rule to implement Amendment 122 will be effective at the beginning of the 2024 fishing year and to provide the regulated community with timely, adequate, and accurate information necessary to allow the industry to plan for the 2024 fishing season, to conduct orderly and efficient fisheries, and to avoid potential disruption to the fishing fleet and processors.

For the same reasons, NMFS finds good cause under 5 U.S.C. 553(d)(3) to waive the 30-day delay in the effective date.

NMFS prepared a Final EIS for the Alaska groundfish harvest specifications and alternative harvest strategies (see ADDRESSES) and made it available to the public on January 12, 2007 (72 FR 1512). On February 13, 2007, NMFS issued the ROD for the Final EIS. In January-February 2023, NMFS prepared a SIR for the 2023 and 2024 harvest specifications and determined that a supplemental EIS is not necessary to implement the 2023 and 2024 harvest specifications. Copies of the Final EIS, ROD, and annual SIRs for this action are available from NMFS (see ADDRESSES). NMFS also prepared an EA and FONSI in conjunction with Amendment 122 to the BSAI FMP (See ADDRESSES).

Because prior notice and opportunity for public comment are not required for this rule by 5 U.S.C. 553, or any other law, the analytical requirements of the Regulatory Flexibility Act are inapplicable. This rule modifies the final 2023 and 2024 harvest specifications to be consistent with Amendment 122 and implementing regulations, for both of which NMFS prepared a FRFA. A FRFA was prepared to evaluate the impacts on small entities resulting from establishing the final 2023 and 2024 harvest specifications, in accordance with Section 604 of the Regulatory Flexibility Act (RFA) (5 U.S.C. 604). The FRFA was published with the harvest specifications final rule (88 FR 14926, March 10, 2023) and is not repeated here. Additionally, an initial regulatory flexibility analysis (IRFA) and FRFA were prepared for Amendment 122. The FRFA for Amendment 122 incorporates the IRFA, a summary of the significant issues raised by the public comments in response to the IRFA, NMFS's responses to those comments, and a summary of the analyses completed to support the action.

This action does not modify recordkeeping or reporting requirements, or duplicate, overlap, or conflict with any Federal rules.

This rule contains no information collection requirements under the Paperwork Reduction Act of 1995.

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. A FRFA was not required to implement this rule.

NMFS, however, provides the following information as a plain language guide to assist small entities in complying with this final rule. This final rule is necessary to revise final 2023 and 2024 harvest specifications for 2024 Pacific cod allocations and crab and halibut PSC limits in the BSAI so that the allocations and PSC limits are consistent with new fishery allocations and PSC limits established under the final rule to implement Amendment 122. This action affects all fishermen who participate in the trawl CV and AFA CP sectors Pacific cod fisheries in the BSAI. The specific amounts of Pacific cod TAC apportionments and PSC limit allocations are provided in tabular form to assist the reader. NMFS will announce closures of directed fishing in the Federal Register and in information bulletins released by the Alaska Region. Affected fishermen should keep themselves informed of such closures. Additional information on the PCTC Program, including a small entity compliance guide, can be found on the NMFS Alaska Region website at https://www.fisheries.noaa.gov/s3/2023-08/PCTC-Small-Entity-Compliance-Guide-FAQ.pdf.

Authority: 16 U.S.C. 773 et seq.; 16 U.S.C. 1540 (f), 1801 et seq.; 16 U.S.C. 3631 et seq.; Pub. L. 105-277; Pub. L. 106-31; Pub. L. 106-554; Pub. L. 108-199; Pub. L. 108-447; Pub. L. 122-241; Pub. L 122-479.

Dated: November 30, 2023.
Samuel D. Rauch, III,
Deputy Assistant Administrator for Regulatory Programs, National Marine Fisheries Service.

[FR Doc. 2023-26639 Filed 12-5-23; 8:45 am]

BILLING CODE 3510-22-P